DEPARTMENT OF TRANSPORTATION

Federal Aviation Administration

Notice of Intent To Prepare an Environmental Impact Statement and to Hold an Environmental Scoping Meeting for Runway Safety Area Improvements at Groton-New London Airport, Groton, Connecticut

AGENCY: Federal Avation Administration, DOT.

ACTION: Notice of Public Environmental Scoping Meeting.

SUMMARY: The Federal Aviation Administration (FAA) is issuing notice to advise the public that an Environmental Impact Statement (EIA) will be prepared for a proposal by the State of Connecticut to construct Runway Safety Area improvements to Runway 5-23 at Groton-New London Airport, Groton, Connecticut. To ensure that all significant issues related to the proposed action are identified a public scoping meeting will be held.

FOR FURTHER INFORMATION CONTACT: Frank Smigelski, Environmental Specialist, Airports Division, New England Region, Federal Aviation Administration, 12 New England Executive Park, Burlington, Massachusetts 01803. Telephone number: 781-238-7613.

SUPPLEMENTARY INFORMATION: Because of the potential for significant adverse environmental impact, primarily to wetlands and estuarine resources adjacent to the runway, comments and suggestions are invited from federal, state and local agencies and other interested members of the public on order to ensure that a full range of issues related to the proposed project are identified and addressed in the scope of work for the EIS. Comments and suggestions may be mailed to the FAA at the above address.

Public Scoping Meeting

In order to provide public input, a scoping meeting for federal, state and local agencies and other interested members of the public will be held on May 10, 2000 at 11:00 a.m. at the Connecticut Air National Guard AVCARD Facility, 139 Tower Road, Groton-New London Airport, Groton, CT. The scoping meeting will include a field tour of the project area. Representatives of federal, state and local agencies and other interested members of the public are encouraged to attend and comment. Additional Information may be obtained by contacting FAA at the above address or telephone number.

Issued in Burlington, Massachusetts on March 30, 2000.
Vincent A. Scarano,
Manager, Airports Division FAA, New England Region.

[FR Doc. 00-8972 Filed 4-10-00; 8:45 am]

BILLING CODE 4910-13-M